DEPARTMENT OF ENERGY

Federal Energy Regulatory Commission

[Docket No. PF05-17-000]

Maritimes & Northeast Pipeline, L.L.C.; Notice of a Public Meeting To Receive Environmental Comments on the Alternative Locations for the Massachusetts Compressor Station as Part of the Maritimes Phase IV Project

March 17, 2006.

On December 16, 2005, the Commission issued a Notice of Intent to Prepare an Environmental Impact Statement For the Proposed Maritimes Phase IV Project and Request for Comments on Environmental Issues and Notice of Public Scoping Meetings (NOI) in response to Maritimes & Northeast Pipeline, L.L.C. (Maritimes) request to initiate the prefiling process for its Maritimes Phase IV Project.¹

¹ The Maritimes Phase IV Project consists of the construction of about 146 miles of pipeline loops in Maine and six new compressor stations in Maine and Massachusetts. In addition, Maritimes would modify one existing compressor station and four existing meter stations in Maine and Massachusetts.

In a January 31, 2006 filing, Maritimes identified its preferred location for the Massachusetts Compressor Station along with six alternative sites. Several of these alternative sites were developed as the result of public response to our NOI and January 12, 2006 scoping meeting in Methuen, Massachusetts. The locations of the seven potential sites for the Massachusetts Compressor Station are shown in the enclosure.

We are conducting this public meeting to allow you the opportunity to express your environmental concerns about the seven potential sites for the Massachusetts Compressor Station. We will use these comments to help us analyze these seven potential locations for the Massachusetts Compressor Station in our Draft Environmental Impact Statement (EIS). Comments may be submitted in written form or verbally at the meeting. Further details on how to submit written comments are provided in this notice. In lieu of sending written comments, we invite you to attend the following public comment meeting.

Date and Time: Wednesday, April 5, 2006, 7 p.m. to 10 p.m. (EST).

Location: Haverhill City Hall, 4 Summer Street, Haverhill, Massachusetts, Phone: 978-374-2300.

You can make a difference by providing us with your specific environmental comments or concerns on the location of the Massachusetts Compressor Station. By becoming a commentor, your concerns will be addressed in the EIS and considered by the Commission. You should focus on the potential environmental effects of the construction and operation of the proposed Massachusetts Compressor Station and measures to avoid or lessen environmental impact. The more specific your comments, the more useful they will be. We request that you file your comments as soon as possible, but no later than April 14, 2006. Please carefully follow these instructions to ensure that your comments are received in time and properly recorded:

• Send an original and two copies of your letter to:Magalie R. Salas, Secretary, Federal Energy Regulatory Commission, 888 First St., NE., Room 1A, Washington, DC 20426.

• Label one copy of your comments for the attention of Gas Branch 2, DG2E.

• Reference Docket No. PF05-17-000 on the original and both copies.

• Mail your comments so that they will be received in Washington, DC on or before April 14, 2006.

Please note that we are continuing to experience delays in mail deliveries from the U.S. Postal Service. As a result, we will include all comments that we receive within a reasonable time frame in our environmental analysis of this project. However, the Commission strongly encourages electronic filing of any comments in response to this Notice of Intent. For information on electronically filing comments, please see the instructions on the Commission's Web site at http://www.ferc.gov under the “e-Filing” link and the link to the User's Guide, as well as information in 18 CFR 385.2001(a)(1)(iii). Before you can submit comments you will need to create a free account, which can be created on-line.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

The public meeting in Haverhill is designed to provide another opportunity to offer comments on the proposed Massachusetts Compressor Station. Interested groups and individuals are encouraged to attend the meetings and to present comments on the environmental issues they believe should be addressed in the EIS. A transcript of the meeting will be generated so that your comments will be accurately recorded.

Magalie R. Salas,
Secretary.

[FR Doc. E6-4237 Filed 3-23-06; 8:45 am]

BILLING CODE 6717-01-P